DEPARTMENT OF THE INTERIOR

Bureau of Land Management

[AZ-956-09-1420-00]

Arizona State Office; Notice of Filing of Plats of Survey

1. The plats of survey of the following described land were officially filed in the Arizona State Office, Phoenix, Arizona on the dates indicated:

A plat representing the dependent resurvey of a portion of the east boundary and a portion of the subdivisional lines and the subdivision of sections 14 and 24, Township 26 North, Range 9 East, of the Gila and Salt River Meridian, Arizona, accepted November 21, 2000 and officially filed on December 7, 2000.

This plat was prepared at the request of the Bureau of Indian Affairs, Phoenix Area Office.

A plat representing the dependent resurvey of the Fourth Guide Meridian East, through Township 28 North, (west boundary), the south and east boundaries and a portion of the subdivisional lines, and the survey of a portion of the subdivisional lines, Township 28 North, Range 17 East, of the Gila and Salt River Meridian, Arizona, accepted October 23, 2000 and officially filed November 3, 2000.

This plat was prepared at the request of the Bureau of Indian Affairs, Phoenix Area Office.

A plat representing the survey of the Sixth Guide Meridian East, (west boundary), the east and north boundaries, and the subdivisional lines, Township 34 North, Range 25 East, of the Gila and Salt River Meridian, Arizona, accepted November 28, 2000 and officially filed December 14, 2000.

This plat was prepared at the request of the Bureau of Indian Affairs, Navajo Area Office.

A plat representing the survey of the Ninth Standard Parallel North, (south boundary), Township 37 North, Range 25 East, of the Gila and Salt River Meridian, Arizona, accepted November 28, 2000 and officially filed December 14, 2000.

This plat was prepared at the request of the Bureau of Indian Affairs, Navajo Area Office.

A plat representing the survey of the east and north boundaries, and the subdivisional lines, Township 34 North, Range 26 East, of the Gila and Salt River Meridian, Arizona, accepted November 28, 2000 and officially filed December 14, 2000.

This plat was prepared at the request of the Bureau of Indian Affairs, Navajo Area Office.

A plat representing the survey of the Ninth Standard Parallel North, (south boundary), Township 37 North, Range 26 East, of the Gila and Salt River Meridian, Arizona, accepted November 28, 2000 and officially filed December 14, 2000.

This plat was prepared at the request of the Bureau of Indian Affairs, Navajo Area Office.

A plat representing the survey of the Ninth Standard Parallel North, (south boundary), Township 37 North, Range 27 East, of the Gila and Salt River Meridian, Arizona, accepted November 28, 2000 and officially filed December 14, 2000.

This plat was prepared at the request of the Bureau of Indian Affairs, Navajo Area Office.

A plat, in seven sheets, representing the legal survey of the descriptive boundary of the Mount Trumbull Wilderness Area in Townships 35 North, Ranges 7 and 8 West and Township 34 North, Range 8 West, of the Gila and Salt River Meridian, Arizona, accepted October 23, 2000 and officially filed November 3, 2000.

This plat was prepared at the request of the Bureau of Land Management, Arizona Strip Office.

A plat representing the dependent resurvey of a portion of the subdivisional lines and the subdivision of section 29, Township 4 North, Range 19 West, of the Gila and Salt River Meridian, Arizona accepted November 21, 2000 and officially filed November 30, 2000.

This plat was prepared at the request of the Bureau of Land Management, Arizona State Office.

These plats will immediately become the basic records for describing the land for all authorized purposes. These plats have been placed in the open files and are available to the public for information only.

2. All inquires relation to these lands should be sent to the Arizona State Office, Bureau of Land Management, 222 N. Central Avenue, P.O. Box 1552, Phoenix, Arizona 85001-1552.

Kenny D. Ravnikar,
Chief Cadastral Surveyor of Arizona.

[FR Doc. 01-3874 Filed 2-14-01; 8:45 am]

BILLING CODE 4310-32-P